DEPARTMENT OF HOMELAND SECURITY

U.S. Customs and Border Protection

Declaration Zone Test: Second Extension

AGENCY: U.S. Customs and Border Protection; DHS.

ACTION: General notice.

SUMMARY: This notice announces that U.S. Customs and Border Protection (CBP) is extending the Declaration Zone test for an additional three years. Current CBP regulations require each traveler to provide a CBP officer with an oral or written declaration of all articles brought into the United States. The Declaration Zone test streamlines the processing of travelers who enter the United States aboard vessels by allowing a demonstrative initial declaration to separate travelers who do not have items to declare from those who have items to declare and, in some cases, replace the provision of oral or written declarations.

DATES: The existing Declaration Zone test is set to expire on October 16, 2025. CBP is extending the Declaration Zone test at participating cruise terminals for an additional three years, expiring on October 16, 2028, unless renewed. CBP will announce any modifications by notice in the Federal Register.

ADDRESSES: Written comments concerning program, policy, and technical issues may be submitted at any time during the test period via email to traveler-entry-programs@cbp.dhs.gov. Please use “Comment on Declaration Zone Test” in the subject line of the email.

FOR FURTHER INFORMATION CONTACT: Corey Daboin, Admissibility & Passenger Programs, Office of Field Operations, U.S. Customs & Border Protection, at 202-325-1009, or traveler-entry-programs@cbp.dhs.gov.

SUPPLEMENTARY INFORMATION:

I. Background

Under existing U.S. Customs and Border Protection (CBP) regulations, each traveler ¹ entering the United States must provide an oral or written declaration of all articles brought into the United States, to a CBP officer. See part 148, subpart B of title 19 of the Code of Federal Regulations (19 CFR part 148, subpart B). The Declaration Zone test, described below, provides arriving travelers with an alternative method to meet this requirement by allowing a demonstrative initial declaration at select cruise terminals at certain sea ports of entry.

¹ For the purposes of this test, a “traveler” is any individual who is subject to the declaration requirements found in 19 CFR part 148 subpart B. Crewmembers, subject to the declaration requirements found in 19 CFR part 148 subpart G, are not included within this definition of traveler.

On August 30, 2021, CBP announced a two-year Declaration Zone Test (the “initial test”) which allowed travelers entering the United States through participating cruise terminals to provide a demonstrative initial declaration by entering one of two declaration zone queues, either No Items to Declare or Items to Declare.² At cruise terminals that do not have declaration zones, all travelers must enter the same queue and provide an oral or written declaration, regardless of whether or not the traveler has items to declare. Declaration zones facilitate the processing of travelers by separating those who need to go directly to a CBP officer for additional processing, travelers with items to declare, from those who do not, travelers with no items to declare. The initial test was limited to closed loop cruises ³ participating in the voluntary facial biometric debarkation (FBD) ⁴ program at two sea ports of entry.

² See 86 FR 48436 (Aug. 30, 2021).

³ For the purposes of this test, a closed loop cruise is any cruise that departs from a U.S. port and visits one or more foreign ports of call in contiguous territories and/or adjacent islands, as defined in 8 CFR 286.1, before its return voyage to the same U.S. port from where it departed.

⁴ FBD and Simplified Arrival are the facial biometric solutions for processing cruise passengers arriving in the United States onboard closed loop cruises and open loop cruises, respectively. Additional information regarding CBP's use of biometric solutions can be located at https://www.cbp.gov/travel/biometrics.

On October 16, 2023, CBP extended the Declaration Zone Test for an additional two years and expanded the test (the “2023 test extension and expansion”) to include additional sea ports of entry and travelers who disembark from certain open loop cruises ⁵ participating in Simplified Arrival.⁶ The 2023 test extension and expansion was set to expire on October 16, 2025.

⁵ For the purposes of this test, an open loop cruise is any cruise that is not a closed loop cruise.

⁶ See 88 FR 71372 (Oct. 16, 2023).

II. Declaration Zone Test: Second Extension and Expansion

This notice extends the 2023 Extension and Expansion of Declaration Zone Test ⁷ beyond its original expiration date of October 16, 2025, for an additional period of three years. All provisions of the 2023 test extension and expansion, with the exception of the amended expiration date and the number of locations still available for test implementation, will remain applicable through the extended period. CBP invites public comment on any aspect of the Declaration Zone test which may be submitted via email to traveler-entry-programs@cbp.dhs.gov.

⁷ Id.

For convenience, CBP has republished pertinent information from the previous notices in the following subsections, including the purpose of the test, a description of the test, eligibility and participation requirements, CBP's legal authority to conduct this test, a description of the affected Code of Federal Regulations (CFR) requirements, and the evaluation criteria for this test.

A. Duration and Purpose of the Extended Test

The purpose of the Declaration Zone Test is to determine the feasibility of allowing an initial demonstrative declaration as an acceptable declaration method. The evaluation of the initial testing period from 2021 to 2023 was significantly limited due to COVID-19-related disruptions and further limited due to only being available at two sea ports of entry. The 2023 test extension and expansion allowed expansion of the test to up to 18 additional sea ports of entry; however, during the extended testing period, declaration zones were only available at six sea ports of entry. Additionally, the Declaration Zone test did not include open loop cruises in the testing population until the 2023 test extension and expansion. To effectively evaluate the feasibility of allowing an initial demonstrative declaration, including the processing of open loop cruises, it is necessary for CBP to evaluate the use of declaration zones at additional facilities. Thus, CBP is extending the testing period to allow additional facilities to participate that may not have been able to do so previously. The selected three-year testing period will also allow CBP to align the expiration of the Declaration Zone test, which covers arriving vessels, with the Air Declaration Zone test, which covers arriving aircraft. Since 19 CFR part 148 subpart B does not currently distinguish between the maritime and air environments, additional testing will be necessary to determine how to most effectively address the operational differences of aircraft and vessel debarkation, such as differences in the collection of baggage and how that might affect travelers' entry into declaration zones.

The Declaration Zone test was originally scheduled to run for a period of approximately two years, beginning no earlier than September 27, 2021. The Declaration Zone test was extended and expanded on October 16, 2023, with a set expiration date of October 16, 2025. For the reasons described previously, CBP is extending the Declaration Zone test for an additional three years, ending on October 16, 2028. Consistent with both the initial test and first extension, expansion dates may vary at each participating location. While the test is ongoing, CBP will evaluate the results and determine whether the test should be extended or otherwise modified. CBP reserves the right to discontinue this test at any time at CBP's sole discretion. CBP will announce any modifications by notice in the Federal Register.

B. Description and Procedures of the Test

Within a cruise terminal facility participating in the Declaration Zone test, two distinct customs declaration zone queues are established for entering the area where travelers are processed following their egress from a vessel (the “egress area”): one for No Items to Declare and another for Items to Declare. Signage is posted to clearly label the queues at the entrance to the egress area after travelers collect their luggage. The physical act of selecting the No Items to Declare queue or the Items to Declare queue in and of itself constitutes an initial demonstrative declaration. CBP officers conduct roving enforcement operations within the baggage collection and egress areas to ensure traveler compliance. This test solely alters the method of declaration by allowing an initial demonstrative declaration and does not modify travelers' existing obligation to accurately declare items in accordance with CBP regulations. See 19 CFR 148.18, 148.19.

i. No Items To Declare Queue

Travelers who determine they have nothing to declare enter the No Items to Declare queue and proceed through the egress area to the facility exit. CBP officers conduct roving operations in the No Items to Declare zone to affirm traveler compliance, receive oral declarations, and make referrals to secondary inspection as necessary. Travelers who are not questioned by CBP officers conducting roving operations may proceed to the exit.

ii. Items To Declare Queue

Travelers with items to declare enter the Items to Declare queue and present themselves to a CBP officer to make an oral declaration. The CBP officer makes a determination if duty is owed by the traveler or if additional inspection is warranted. The CBP officer then directs the traveler accordingly.

iii. Referral to Secondary Inspection

If a traveler is referred to secondary inspection at any point, CBP officers will follow standard procedures, including collecting an oral and/or written declaration during the referral and inspection. CBP officers will also follow current agency policy on declaration amendment opportunities. See 19 CFR 148.16.

C. Eligibility and Participation Requirements

The Declaration Zone test is limited to closed loop cruises participating in the voluntary FBD program and to open loop cruises participating in Simplified Arrival. Additionally, the test is only available at cruise terminal facilities identified by CBP as having sufficient space and infrastructure to accommodate queuing for processing through a Declaration Zone. CBP Headquarters will communicate with each Field Office and port of entry with cruise terminal facilities meeting these criteria and advise of the option to have a Declaration Zone test at their respective terminal(s). Participating sea ports of entry are listed online at https://www.cbp.gov/travel/biometrics/locations/seaports. Currently, the Declaration Zone test is conducted at cruise terminals at the Miami Sea Port, Port Everglades, Port Canaveral, Galveston, Norfolk, and Bayonne ⁸ sea ports of entry. In the extended testing period announced by this notice, CBP plans to expand the test to include cruise terminals at up to 14 additional sea ports of entry, which would mean a total of 20 possible participants, consistent with the 20 permitted under the 2023 extension and expansion.

⁸ Bayonne, New Jersey, is within the limits of the New York, New York customs port of entry. See 19 CFR 101.3; T.D. 40809 (Apr. 20, 1925).

D. Authorization for This Test

CBP is authorized to impose requirements different from those specified in CBP regulations for purposes of conducting a test program or procedure designed to evaluate the effectiveness of new technology or operational procedures regarding the processing of passengers, vessels, or merchandise. See 19 CFR 101.9(a). Test programs must be limited in scope, time, and application. Waiver or modification of requirements under existing regulations is permitted so long as the waiver or modification does not affect the collection of the revenue, public health, safety, or law enforcement.

This test is authorized under 19 CFR 101.9(a) because it evaluates the effectiveness of a demonstrative initial declaration as an alternative to existing declaration requirements. This test is limited in scope, time, and application because this notice authorizes the alternative procedure for a period of three years and will only be applicable to select cruise terminals at certain sea ports of entry. CBP does not anticipate that this test will affect the collection of the revenue, public health, safety, or law enforcement.

E. Modification of Certain Regulatory Requirements

CBP regulations require each traveler to provide an oral or written declaration of all articles brought into the United States to a CBP officer. See 19 CFR 148.12 and 148.13. The test described in the 2021 and 2023 notices and extended by this notice provides travelers at participating cruise terminals with a modified method of satisfying the oral or written declaration requirements by allowing a demonstrative initial declaration, as described in Section II.B.

If a traveler enters the No Items to Declare queue and is not questioned by CBP officers conducting roving operations prior to exiting the egress area of the facility, the requirement to provide an oral or written declaration under 19 CFR 148.12 or 148.13 will be deemed satisfied for the purposes of this test. For all other travelers, the initial demonstrative declaration supplements the requirement to provide an oral and/or written declaration under 19 CFR 148.12 and 148.13.

Regardless of which declaration zone queue a traveler selects, all other requirements of 19 CFR part 148, subpart B, regarding declarations, including those provided by 19 CFR 148.18, regarding failure to declare, and 19 CFR 148.19, regarding false or fraudulent statements, still apply.

F. Evaluation of the Declaration Zone Test

CBP will use the results of this renewed test to assess the operational feasibility of allowing an initial demonstrative declaration to be an acceptable declaration method. CBP will evaluate this test based on a number of criteria, including:

• Evaluation of cruise line customer satisfaction surveys gathering feedback on the debarkation process; and

• Comparison of year-over-year enforcement statistics for each test period to ensure no impact to duty collection or to the frequency of enforcement activities.

G. Paperwork Reduction Act

The Paperwork Reduction Act of 1995 (PRA), 44 U.S.C. 3501 et seq., requires that CBP consider the effect of paperwork and other information collection burdens imposed on the public, and under the provisions of 44 U.S.C. 3507(c) and (d), obtain approval from the Office of Management and Budget for each collection of information it conducts, sponsors, or requires through regulations. There is no new collection of information required in this document; thus, the provisions of the PRA are inapplicable to this test.

Diane J. Sabatino,
Acting Executive Assistant Commissioner, Office of Field Operations, U.S. Customs and Border Protection.

[FR Doc. 2025-17688 Filed 9-11-25; 8:45 am]

BILLING CODE 9111-14-P